DEPARTMENT OF TRANSPORTATION

Research and Special Programs Administration

49 CFR Chapter I

[Notice No. 02-05]

Hazardous Materials; Advisory Guidance on Packaging and Shipper Responsibilities

AGENCY: Research and Special Programs Administration (RSPA), DOT.

ACTION: Advisory guidance.

SUMMARY: This advisory document is to remind shippers of hazardous materials in commerce, particularly by aircraft, of their responsibilities to properly identify, package, and communicate the hazards of those materials in conformance with the Hazardous Materials Regulations. The intent of this action is to enhance the safety of hazardous materials in transportation.

FOR FURTHER INFORMATION CONTACT: Michael G. Stevens, Office of Hazardous Materials Standards, Research and Special Programs Administration, U.S. Department of Transportation, 400 Seventh Street, SW., Washington, DC 20590-0001, telephone (202) 366-8553.

SUPPLEMENTARY INFORMATION: The Hazardous Materials Regulations (HMR; 49 CFR Parts 171-180) specify requirements for the safe transportation of hazardous materials in commerce by rail car, aircraft, vessel, and motor vehicle. In general, the HMR apply to each person who performs, or causes to be performed, functions related to the transportation of hazardous materials in commerce. The HMR prescribe requirements for classification, packaging, hazard communication, shipping papers, incident reporting, handling, loading, unloading, segregation, and movement of hazardous materials.

Each year, carriers report thousands of “incidents” involving the transportation of hazardous materials to the Research and Special Programs Administration (RSPA, we) in accordance with the HMR incident reporting requirements. An “incident” occurs when there is an unintentional release of hazardous material from a package (including a tank) or, as a direct result of hazardous materials, an “incident” requires immediate notification to the National Response Center (see §§ 171.15 and 171.16).

Many incidents result from noncompliance with the requirements in the HMR. They frequently stem from a shipper's lack of awareness of the HMR's requirements, rather than a deliberate violation. The safety of hazardous materials in transportation depends on persons engaged in day-to-day transportation-related activities making a concerted effort to comply with the HMR. We strongly urge all persons involved in the packaging and offering of hazardous materials to carefully examine all of their procedures to ensure compliance.

In this document, we discuss requirements that are applicable to persons who offer (or ship) hazardous materials. These are subdivided into the following seven areas: (1) Hazard identification, classification and communication; (2) general packaging requirements; (3) requirements for the use of packagings meeting United Nations (UN) performance standards; (4) additional packaging requirements for air shipments; (5) transportation security; (6) training of hazmat employees; and (7) obtaining Federal assistance.

Most of the guidance and information in this document applies to all modes of transportation. However, this document emphasizes the requirements for air transportation because of the number of reported incidents involving air transportation and the vulnerability of air transportation to potentially catastrophic accidents. This document provides general guidance only. Shippers should not rely on this document as a substitute for the HMR to determine compliance with regulatory requirements.

I. Hazardous Materials Identification, Classification, and Communication

Reducing or eliminating the incidence of undeclared hazardous materials in transportation is one of our highest priorities. Undeclared hazardous materials shipments by aircraft are of particular concern because of the risks they pose. We believe a lack of awareness of regulatory requirements and the risks posed by hazardous materials is a contributing factor in undeclared hazardous materials entering the transportation system. As a shipper—that is, a person who offers hazardous materials for transportation—you must be aware of any hazardous characteristics of your products and must know whether a product is regulated as a hazardous material before offering it for transportation. In addition, you should know whether an item or article contains a hazardous material.

Currently, we have a number of non-regulatory initiatives to increase public awareness of the safety problem presented by undeclared shipments of hazardous materials. We are examining a number of alternatives to reduce or eliminate undeclared hazardous materials shipments, such as through better means of detection. Ultimately, however, primary responsibility for ensuring that hazardous materials are identified and declared in accordance with the applicable regulations rests with the shipper.

Classification and Hazard Communication

Because you as a shipper perform critical functions in preparing hazardous materials for transportation, you have the greatest opportunity to improve transportation safety. You may offer a hazardous material for transportation only when it is properly classed and described in accordance with parts 172 and 173 of the HMR, or international regulations such as the International Civil Aviation Organization's Technical Instructions for the Safe Transport of Dangerous Goods by Air (ICAO Technical Instructions), as permitted in Part 171 of the HMR. The § 172.101 Hazardous Material Table (HMT) lists the most commonly transported materials and articles by name, or by a generic alternative when no specific name is listed. Some hazardous materials are prohibited for transportation. Others, such as most explosives, self-reactive substances, and organic peroxides, require the approval of the Associate Administrator for Hazardous Materials Safety before they may be offered or transported. However, for most hazardous materials, you are responsible for determining the appropriate hazard class and shipping description. This information determines the appropriate packaging and hazard communication requirements such as package marking, labels, and shipping documentation, including emergency response information.

II. General Packaging Requirements

Selection and use of the appropriate packaging for a hazardous material are essential to ensuring that a hazardous material is not released during transportation. Only packagings authorized by the HMR may be used to package hazardous materials for transportation. You must ensure that a packaging will retain its contents during temperature variances, changes in atmospheric pressure, vibration, or other conditions that may be encountered during normal conditions of transport.

Section 173.24 of the HMR sets forth general requirements that apply to all packagings and packages used for hazardous materials. Section 173.24a contains additional requirements for non-bulk packagings. These sections of general applicability require you to ensure a packaging is compatible with its lading, properly closed, and meets any additional capability requirements. For example, § 173.24 requires plastic packaging and inner receptacles used for liquids to be capable of withstanding, without failure, the procedure for determining chemical compatibility and rate of permeation prescribed in Appendix B of Part 173. For Packing Group I materials, this procedure must be performed on each plastic packaging or receptacle. In addition, § 173.24a requires all non-bulk packagings to be capable of withstanding the vibration test procedure specified in § 178.608 without rupture or leakage. Section IV of this notice discusses additional packaging requirements in § 173.27 that apply to packages transported by aircraft.

III. Requirements for the Use of Packagings Meeting United Nations (UN) Performance Standards

UN Standard

Generally, the HMR specify performance levels for packagings based on the hazardous characteristics posed by the specific hazardous material to be packaged. In the HMR, we have implemented packaging standards based on United Nations Recommendations on the Transport of Dangerous Goods (UN Model Regulations). UN standard packagings (i.e., packagings which conform to both the UN Model Regulations and the HMR) are required for most hazardous materials.

Prior to using a UN standard packaging, you must determine that the packaging has been manufactured, assembled, and marked in accordance with Part 178 of the HMR or national or international regulations based on the UN Model Regulations (see § 173.24(d)(2)). For a UN standard packaging, you must assure that the packaging meets the applicable packing group, specific gravity, gross mass, and pressure requirements. Unless otherwise permitted, you must assemble, fill, close, and offer a package for transportation in the same manner as it was tested. Communication between you and the packaging manufacturer is essential to ensure these conditions are met, and that any specialized instructions relating to package preparation are followed. For liquids, you must know the vapor pressure and specific gravity of the material to be packaged (see § 173.24a(b)(4)). You will generally need to know the design details (e.g., size, shape, and type of material) for cushioning material used, if any, and the number and type (e.g., metal can, plastic bottle), style (e.g., friction lid, narrow mouth screw top, wide mouth jar), closure details (e.g., material, size, and liner or gasket design (if required)), and position of any inner receptacles as tested in that particular design type.

You should have a copy of the packaging manufacturer's notification to its customers (see 49 CFR 178.2(c)) and complete the assembly and closure of the package in the manner specified in the notification. Closure of the packaging in the same manner as tested and as specified in the manufacturer's notification is essential to ensuring that it conforms to the requirements of § 173.24 under conditions normally incident to transportation. We strongly recommend that you maintain copies of both the packaging design test report and the notification to customer to ensure that the packaging conforms to applicable requirements. You may also need this information if you reoffer a previously offered package of hazardous material.

For combination UN standard packagings, inner receptacles must conform to the general packaging requirements of §§ 173.24 and 173.24a, discussed in Section II above. Inner packagings must be adequately secured and cushioned within the outer packaging to prevent breakage or leakage and to control the movement of inner packagings within the outer packaging under conditions normally incident to transportation. Except as otherwise permitted under § 178.601 variations, you must close a package in accordance with closure instructions provided by the packaging manufacturer. Design tested components of a combination packaging may vary as permitted under § 178.601. When using a variation, you must ensure that an equivalent level of performance is maintained and you should document how such equivalence was determined. For example, under the selective testing variations in § 178.601(g)(1), Variation 1 allows inner packagings of a tested design to be replaced with inner packagings of equivalent or smaller size without further testing provided an equivalent level of performance is maintained. You must, however, be able to fully ascertain that the varied inner packagings are equally effective as the tested inner packagings they replace; otherwise, the packaging is considered a new packaging and subject to design qualification testing.

Packaging Reuse

If you intend to reuse a packaging or receptacle you must ensure the packaging continues to conform to all applicable HMR requirements. This includes closure devices and cushioning materials. Before a packaging is reused, it must be inspected to assure it is free from incompatible residue, leaks, or other damage that reduces its structural integrity. Packagings that show any evidence of such damage must be reconditioned in accordance with § 173.28(c) prior to reuse. Non-bulk packagings made of paper, plastic film, or textile are not authorized for reuse.

Single or composite UN standard packagings intended to contain liquids are subject to the leakproofness test prescribed in § 178.604 and must be leakproofness tested before reuse. As prescribed in § 173.28(b)(2)(i), packagings must be tested with air using an internal air pressure (gauge) of at least 48 kPa (7.0 psi) for Packing Group I and 20 kPa (3.0 psi) for Packing Group II and Packing Group III. The packaging must be marked with the letter “L”, the name and address or symbol of the person conducting the test, and the last two digits of the year the test was conducted to indicate successful completion of the leakproofness test.

Metal and plastic drums and jerricans used as single packagings or as the outer packagings of composite packagings may be reused only when they are permanently marked (e.g., embossed) in millimeters with the nominal (for metal packagings) or minimum (for plastic packagings) thickness of the packaging material, as required by §§ 173.28 and 178.503(a)(9). Under § 173.28(b)(5), plastic inner receptacles of composite packagings must have a minimum thickness of 1.0 mm (0.039 inch) if reused. Metal or plastic packagings that do not conform to minimum thickness requirements may not be reused.

Packaging Maintenance and Recordkeeping

Packagings manufactured to a UN standard must be design-qualified. This means the design must be tested (design qualification tests) to meet a particular standard. Once a packaging has been tested, it is certified by marking it to identify which performance standard it meets, where and when it was manufactured, and by whom. Identical packagings may be manufactured until periodic retesting is due. Single and composite non-bulk packaging designs must be retested successfully at least once every 12 months. Combination packaging designs must be retested successfully at least once every 24 months.

The term “manufacturer” means the person certifying or taking responsibility for assuring that the packaging meets the standard to which it is marked. This may not necessarily be the person who produces the packaging or the person who tests the packaging. A person who certifies a packaging may be a self-certifying shipper, a box manufacturer, or a third party testing lab. The person certifying the packaging is responsible for the integrity of the packaging and for ensuring the packaging meets the performance requirements of the HMR.

Any person certifying a packaging, and each subsequent distributor of that packaging, must notify in writing each person to whom that packaging is transferred of all requirements of Part 178 not met at the time the packaging is transferred. Such notification must include the type and dimensions of any closures, including gaskets, needed to satisfy performance test requirements. This notification includes instructions on how to assemble and close each packaging so the user may be assured that the packaging will perform to the standard to which it is marked. A copy of the written notification must be retained by the packaging manufacturer for at least one year from the date it is issued, and copies of all written notifications must be made available for inspection by representatives of DOT.

IV. Additional Packaging Requirements for Air Shipments

If you offer hazardous materials for transportation by aircraft, you must ensure that all of the additional requirements applicable to air transport are met. Because of the risks posed by leaking hazmat packages in air transport, you must exercise exceptional diligence and attention to detail when preparing packagings. For example, because temperatures can range from −40 °C to 55 °C (−40 °F to 130 °F), sufficient ullage (outage) must be maintained in receptacles containing liquids to ensure the structural integrity of the package while transported. Reduced external pressure caused by altitude variances can result in package failure if inferior, untested, or improper packagings containing liquids are transported. Extreme care must be exercised when hazardous materials have been packaged by others and are consolidated or reshipped. You must verify that the package is eligible for air transport.

General Packaging Requirements

All packagings offered for air transport must conform to the requirements prescribed in § 173.27 of the HMR. These requirements are in addition to those in §§ 173.24 and 173.24a. For example, a Packing Group III material of Class 4, 5, or 8 offered for air transport must be packaged in packages meeting the Packing Group II performance level. In addition, § 173.27 prescribes pressure requirements for packagings; package closure requirements; the use of absorbent materials; inner receptacle quantity limits and pressure capabilities; and additional labeling for packages requiring transport aboard cargo-only aircraft.

Inner Packaging Requirements

Tables 1 and 2 of § 173.27 prescribe the maximum net capacity of inner packagings contained within a combination packaging that may be offered for transport aboard an aircraft. Columns 9A and 9B of the HMT specify individual package quantity limits or forbid transportation by passenger-carrying or cargo-only aircraft, respectively. Unless otherwise specified, the individual package quantity limitations in columns 9A and 9B of the HMT are “net”, that is, the quantity of hazardous materials in the completed package. When “gross” is specified, the individual package limitation is the gross mass (i.e., packaging and its contents) allowed per package. For articles or devices specifically listed by name, the net quantity limit applies to the entire article or device, less packaging and packaging materials.

Pressure Differential Capability

You should not use a packaging for transportation by aircraft unless the packaging meets the pressure requirements and is closed in a manner that ensures that it will be capable of resisting pressure changes throughout transportation. All packagings intended to contain liquids must be capable of withstanding, without leakage, an internal gauge pressure of at least 75 kPa (11 psig) for liquids in Packing Group III of Class 3 or Division 6.1 or 95 kPa (14 psig) for all other liquids, or a pressure related to the vapor pressure of the liquid to be conveyed, whichever is greater (see § 173.27(c)). This requirement also applies to liquids excepted from specification packaging, such as limited quantities and consumer commodities. Although not currently required, we recommend that you perform pressure tests on sample receptacles to ensure conformance with the capability standard. Liquids contained in inner receptacles that do not meet the minimum pressure requirements in § 173.27(c) may be overpacked into receptacles that do meet the pressure requirements. A single packaging, or any packaging subject to hydrostatic pressure testing under § 178.605, must have a marked test pressure of not less than 250 kPa for liquids in Packing Group I, 80 kPa for liquids in Packing Group III of Class 3 or Division 6.1, and 100 kPa for other liquids.

Closures

Packaging failures in air transportation often involve loose closures. Stoppers, corks, or other such friction-type closures must be held securely, tightly and effectively in place by positive means (see § 173.27(d)). A screw-type closure on any packaging must be secured to prevent the closure from loosening due to vibration or substantial change in temperature. A secured closure should incorporate a secondary means of maintaining a seal, such as a shrink-wrap band or heat sealed liner. You must ensure that replacement closures or inner packagings other than those originally tested (e.g., caps or bottles from a different vendor) conform to the pressure requirements in § 173.27 (c)(1) and (c)(2).

Absorbent Material

Except as otherwise provided, liquids in Packing Group I or II of Class 3, 4, 5, 6, or 8, when in glass or earthenware inner packagings, must be packaged with absorbent material that will not react dangerously with the liquid as prescribed in § 173.27(e). In addition, where a package requiring absorbent material is not liquid-tight, a means of containing the liquid must be used. You may accomplish this by using a leakproof liner, plastic bag, or other equally efficient means of containment. It should be noted that, while not having official standing under the HMR, the majority of air carriers only accept hazardous materials packaged in conformance with the International Air Transport Association's Dangerous Goods Regulations (IATA DGR). Currently, the IATA DGR require all liquids in Class 3, 4, or 8, or in Division 5.1, 5.2, or 6.1, to be provided with a means of containing the liquid in the event of leakage when packed in an outer package that is not leak-tight. The addition of a liner or similar form of containment to a previously tested packaging design generally would not constitute a different packaging, requiring new design qualification testing, provided the liner does not compromise the integrity of the original tested design type (such as affecting the closure or necessitating a change in the manner of assembly of the package).

V. Transportation Security

In the wrong hands, certain hazardous materials may pose significant security threats, particularly those that may be used as weapons of mass destruction. Persons who offer, transport, or store hazardous materials in transit should review their security measures and make any necessary adjustments to ensure the security of hazardous materials shipments. On February 14, 2002, we published a notice in the Federal Register (67 FR 6963) advising hazardous materials shippers and carriers of voluntary measures to enhance the security of hazardous materials shipments during transportation. The notice addresses personnel, facility, and en route security issues, and includes contact points for obtaining additional, more detailed information. These possible actions are not government regulations or mandates. However, we strongly suggest that shippers and carriers consider implementation of security measures that are appropriate to their industry and operations. There are certain cargo security regulations already in place, such as the Federal Aviation Administration's Indirect Air Carrier Security Program set forth under 14 CFR part 109.

VI. Training of Hazmat Employees

We estimate that over 85 percent of all hazardous materials incidents are caused by human error. Insufficient function-specific training of hazmat employees has been identified as a major contributor in hazmat related incidents. Before any hazmat employee performs a function subject to the HMR, that person must be trained in the performance of that function. Effective training of hazmat employees reduces the potential for incidents and accidents. Training is essential for the protection of people, property, and the environment.

Training is a systematic program (consistent approach, testing, and documentation) that ensures a hazmat employee has knowledge of hazardous materials and the HMR, and can perform assigned hazmat functions properly. The terms “hazmat employee” and “hazmat employer” are defined in detail in § 171.8. Stated briefly, a hazmat employee is anyone who directly affects hazardous material transportation safety. A hazmat employer is anyone who uses employees in connection with transporting hazardous materials in commerce, causing hazardous materials to be transported, or manufacturing or offering packagings as authorized for use in transportation of hazardous materials. Each hazmat employee must be initially trained, and periodically retrained every three years in three areas: (1) General awareness/familiarization training designed to provide familiarity with requirements of the HMR and to enable the employee to recognize and identify hazardous materials; (2) function-specific training concerning requirements of the HMR which are specifically applicable to the functions the employee performs; and (3) safety training concerning emergency response information, measures to protect the employee from the hazards posed by materials, and methods and procedures for avoiding accidents.

VII. Obtaining Federal Assistance

You may obtain information on hazardous material incidents, most of which involve “spills” (the unintentional release of a hazardous material during transportation), from RSPA's database which is accessible from our website at http://hazmat.dot.gov. You can search this database to make sure that you are aware of incidents involving your shipments. To ensure that shippers are informed of incidents involving their shipments, RSPA has proposed to amend the HMR to require a carrier to notify the shipper of any incident required to be reported to RSPA. (See RSPA's notice of proposed rulemaking published in the Federal Register on July 3, 2001; 66 FR 35155.)

Our Hazardous Materials Information Center (HMIC) may be reached toll-free at 800-467-4922. The HMIC provides informal guidance concerning requirements of the HMR. The HMIC is staffed with information specialists from 9 am until 5 pm, Eastern time, Monday through Friday, except Federal holidays. When the information line is not staffed, callers may leave a recorded message, which will be answered the next business day. This toll-free number may also be used to voluntarily report suspected violations of the HMR. Reported violations of hazardous materials regulations are forwarded to the Office of Hazardous Materials Enforcement or the appropriate DOT modal administration for appropriate action.

Modal-specific information may be obtained directly from DOT's modal administrations (i.e., the Federal Aviation Administration, the Federal Motor Carrier Safety Administration, the Federal Railroad Administration, the U.S. Coast Guard, and the Transportation Security Administration) at their Washington, DC headquarters or field offices.

You may request an informal written interpretation, a regulatory clarification, a response to a question, or offer an opinion concerning hazardous materials transportation by submitting a written request to the RSPA Office of Hazardous Materials Standards (DHM-10), U.S. Department of Transportation, 400 Seventh Street, SW., Washington, DC 20590-0001.

We have a variety of training materials and compliance guides available in limited quantities to interested persons. Information on those publications and related materials is available through our website at http://hazmat.dot.gov/. In addition our website provides: (1) A complete copy of the HMR; (2) recently published rulemakings; (3) hyperlinks to government and private vendors who offer training, consulting and other contracted services; (4) our multi-modal training seminar schedule; (5) complementary on-line training modules; and (6) informal interpretations and guidance documents.

Issued in Washington, DC, on May 6, 2002.
Frits Wybenga,
Deputy Associate Administrator for Hazardous Materials Safety.

[FR Doc. 02-11659 Filed 5-10-02; 8:45 am]

BILLING CODE 4910-60-P